FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington DC 20551-0001, not later than October 24, 2019.

A. Federal Reserve Bank of Chicago (Colette A. Fried, Assistant Vice President) 230 South LaSalle Street, Chicago, Illinois 60690-1414:

1. Andrew R. Bosshard, as trustee of the Alexandra Tana Bosshard Irrevocable Trust of 2018, the Lindsey Bosshard Irrevocable Trust of 2018, and the Nathan Bosshard-Blackey Irrevocable Bank Trust; The Alexandra Tana Bosshard Irrevocable Trust of 2018; The Lindsey Bosshard Irrevocable Trust of 2018; and the Nathan Bosshard-Blackey Irrevocable Bank Trust, all of LaCrosse, Wisconsin; to be approved as members acting in concert with the Bosshard Family Group to acquire voting shares of Bosshard Financial Group, Inc., and thereby indirectly acquire shares of Oregon Community Bank, Oregon, Wisconsin, and Farmers State Bank of Hillsboro, Hillsboro, Wisconsin.

B. Federal Reserve Bank of Kansas City (Dennis Denney, Assistant Vice President) 1 Memorial Drive, Kansas City, Missouri 64198-0001:

1. Todd E. Domer and Marilyn K. Domer, both of Topeka, Kansas; to be approved as members acting in concert with the Domer Family Group to retain voting shares of Spearville Bancshares, Inc., and thereby indirectly retain shares of First National Bank of Spearville, both of Spearville, Kansas.

Board of Governors of the Federal Reserve System, October 3, 2019.
Yao-Chin Chao,
Assistant Secretary of the Board.

[FR Doc. 2019-21914 Filed 10-7-19; 8:45 am]

BILLING CODE 6210-01-P